DEPARTMENT OF TRANSPORTATION

Federal Aviation Administration

14 CFR Part 39

[Docket No. FAA-2017-0122; Directorate Identifier 2017-NM-010-AD; Amendment 39-18809; AD 2017-04-14]

RIN 2120-AA64

Airworthiness Directives; Textron Aviation Inc. (Type Certificate Previously Held by Cessna Aircraft Company) Airplanes

AGENCY: Federal Aviation Administration (FAA), DOT.

ACTION: Final rule; request for comments.

SUMMARY: We are adopting a new airworthiness directive (AD) for certain Textron Aviation Inc. Model 560XL airplanes. This AD requires inspections of the fuel tube and right alternating current (AC) generator wires. This AD was prompted by reports of inadequate separation between the electrical wire bundle and fuel tube. We are issuing this AD to address the unsafe condition on these products.

DATES: This AD is effective March 9, 2017.

The Director of the Federal Register approved the incorporation by reference of a certain publication listed in this AD as of March 9, 2017.

We must receive comments on this AD by April 10, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this final rule, contact Textron Aviation Inc., P.O. Box 7706, Wichita, KS 67277; telephone 316-517-6215; fax 316-517-5802; email citationpubs@txtav.com; Internet https://support.cessna.com/custsupt/csupport/newlogin.jsp. You may view this referenced service information at the FAA, Transport Airplane Directorate, 1601 Lind Avenue SW., Renton, WA. For information on the availability of this material at the FAA, call 425-227-1221. It is also available on the Internet at http://www.regulations.gov by searching for and locating Docket No. FAA-2017-0122.

Examining the AD Docket

You may examine the AD docket on the Internet at http://www.regulations.gov by searching for and locating Docket No. FAA-2017-0122; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Craig Henrichsen, Aerospace Engineer, Electrical Systems and Avionics, ACE-119W, FAA, Wichita Aircraft Certification Office (ACO), 1801 Airport Road, Room 100, Dwight D. Eisenhower Airport, Wichita, KS 67209; phone: 316-946-4110; fax: 316-946-4107; email: Wichita-COS@faa.gov.

SUPPLEMENTARY INFORMATION:

Discussion

We have been notified by Textron Aviation Inc. of a windshield heat failure reported by a flight crew. During follow-on troubleshooting activities, the maintenance crew discovered an open circuit breaker in the tail cone area after finding the AC generator electrical wires chafed against a motive flow fuel tube that was leaking. Additional inspections by the operator found two more airplanes with chafing damage to the wires and fuel tube. Textron Aviation Inc. also found evidence of damage to the electrical wire bundle on two other airplanes. Further inspections have found inadequate separation between the electrical wire bundle and fuel tube on 19 airplanes in service. The airplane quality inspection failed to identify the wire separation problem prior to airplane delivery. Inadequate separation between the fuel tube and electrical wire bundle, if not corrected, could result in chafing, a possible fuel leak, and electrical arcing, which could lead to a fuel ignition source and possible uncontrolled fire in the tail cone of the airplane.

Related Service Information Under 1 CFR Part 51

We reviewed Textron Aviation Service Letter SL560XL-24-07, including Attachment, dated January 13, 2017. The service information describes procedures for inspections of the fuel tube and right AC generator wires, applicable adjustments, and corrective actions. This service information is reasonably available because the interested parties have access to it through their normal course of business or by the means identified in the ADDRESSES section.

FAA's Determination

We are issuing this AD because we evaluated all the relevant information and determined the unsafe condition described previously is likely to exist or develop in other products of the same type design.

AD Requirements

This AD requires accomplishing the actions specified in the service information described previously. This AD also requires sending the inspection results to Textron Aviation Inc. For information on the procedures and compliance times, see this service information at http://www.regulations.gov by searching for and locating Docket No. FAA-2017-0122.

The phrase “related investigative actions” is used in this AD. Related investigative actions are follow-on actions that (1) are related to the primary action, and (2) further investigate the nature of any condition found.

The phrase “corrective actions” is used in this AD. Corrective actions correct or address any condition found.

Interim Action

This AD is considered to be interim action. The inspection reports that are required by this AD will enable the manufacturer to obtain better insight into the nature, cause, and extent of the damage, and eventually to develop final action to address the unsafe condition. Once final action has been identified, we might consider further rulemaking.

FAA's Justification and Determination of the Effective Date

An unsafe condition exists that requires the immediate adoption of this AD. The FAA has found that the risk to the flying public justifies waiving notice and comment prior to adoption of this rule because inadequate separation between the electrical wire bundle and fuel tube could result in chafing, electrical arcing, and a possible fuel leak, leading to a fuel ignition source and possible uncontrolled fire in the tail cone of the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2017-0122 and Directorate Identifier 2017-NM-010-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 639 airplanes of U.S. registry. We estimate the following costs to comply with this AD:

Estimated Costs
Action | Labor cost | Parts cost | Cost per product | Cost on U.S. operators
Inspections | 1 work-hour × $85 per hour = $85 | $0 | $85 | $54,315
Reporting | 1 work-hour × $85 per hour = $85 | 0 | 85 | 54,315

We estimate the following costs to do any necessary repairs or replacements that would be required based on the results of the inspection. We have no way of determining the number of aircraft that might need these repairs or replacements:

On-Condition Costs
Action | Labor cost | Parts cost | Cost per product
Fuel tube repair or replacement | 7 work-hours × $85 per hour = $595 | $321 | $916
Electrical wiring replacement | 8 work-hours × $85 per hour = $680 | ¹4 | ¹684
¹These figures are based on 1 foot of wire at $4 per foot.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-04-14 Textron Aviation Inc. (Type Certificate Previously Held by Cessna Aircraft Company): Amendment 39-18809; Docket No. FAA-2017-0122; Directorate Identifier 2017-NM-010-AD.

(a) Effective Date

This AD is effective March 9, 2017.

(b) Affected ADs

None.

(c) Applicability

This AD applies to Textron Aviation Inc. (Type Certificate previously held by Cessna Aircraft Company) Model 560XL airplanes, certificated in any category, as identified in Textron Aviation Service Letter SL560XL-24-07, dated January 13, 2017.

(d) Subject

Air Transport Association (ATA) of America Code 24, Electrical power.

(e) Unsafe Condition

This AD was prompted by reports of inadequate separation between the electrical wire bundle and fuel tube. We are issuing this AD to detect and correct inadequate separation and consequent chafing, which could result in electrical arcing and a fuel leak, leading to a fuel ignition source and possible uncontrolled fire in the tail cone of the airplane.

(f) Compliance

Comply with this AD within the compliance times specified, unless already done.

(g) Inspections, Adjustments, and Corrective Actions

Within 25 flight hours or 180 days after the effective date of this AD, whichever occurs first, do general visual inspections of the fuel tube and right alternating current (AC) generator wires for evidence of damage, do all applicable adjustments, and do all applicable corrective actions, in accordance with the Accomplishment Instructions of Textron Aviation Service Letter SL560XL-24-07, including Attachment, dated January 13, 2017. All applicable adjustments and corrective actions must be done before further flight.

(h) Reporting

Submit a report of the findings (both positive and negative) of the inspections required by paragraph (g) of this AD to Textron Aviation Inc. as specified in Textron Aviation Service Letter SL560XL-24-07, including Attachment, dated January 13, 2017, at the applicable time specified in paragraph (h)(1) or (h)(2) of this AD.

(1) If the inspection was done on or after the effective date of this AD: Submit the report within 10 days after the inspection.

(2) If the inspection was done before the effective date of this AD: Submit the report within 10 days after the effective date of this AD.

(i) Special Flight Permit

Special flight permits, as described in Section 21.197 and Section 21.199 of the Federal Aviation Regulations (14 CFR 21.197 and 21.199), are not allowed.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(l) Related Information

For more information about this AD, contact Craig Henrichsen, Aerospace Engineer, Electrical Systems and Avionics, ACE-119W, FAA, Wichita ACO, 1801 Airport Road, Room 100, Dwight D. Eisenhower Airport, Wichita, KS 67209; phone: 316-946-4110; fax: 316-946-4107; email: Wichita-COS@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Textron Aviation Service Letter SL560XL-24-07, including Attachment, dated January 13, 2017.

(ii) Reserved.

(3) For service information identified in this AD, contact Textron Aviation Inc., P.O. Box 7706, Wichita, KS 67277; telephone 316-517-6215; fax 316-517-5802; email citationpubs@txtav.com; Internet https://support.cessna.com/custsupt/csupport/newlogin.jsp.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 9, 2017.
Michael Kaszycki,
Acting Manager, Transport Airplane Directorate, Aircraft Certification Service.

[FR Doc. 2017-03363 Filed 2-21-17; 8:45 am]

BILLING CODE 4910-13-P